DEPARTMENT OF TRANSPORTATION

Federal Aviation Administration

Proposed Advisory Circular (AC) 20-97B, Aircraft Tire Maintenance and Operational Practices

AGENCY: Federal Aviation Administration, DOT.

ACTION: Notice of availability of proposed AC and request for comments.

SUMMARY: This notice announces the availability of and requests comments on a proposed AC that describes the minimum recommended tire care and maintenance practices needed to assure the safety of support personnel and the continued airworthiness of aircraft. The AC sets forth criteria for the installation, inflation, inspection, maintenance, and removal of aircraft tires, as well as criteria for the maintenance of the operating environment needed to maintain safe aircraft operations. This notice is necessary to give all interested persons the opportunity to present their views on the proposed AC.

DATES: Comments must be received on or before June 17, 2002.

ADDRESSES: Send all comments on the proposed AC to: Federal Aviation Administration, Continuous Airworthiness Maintenance Division (Attention: AFS-306), 800 Independence Avenue SW, Washington, DC 20591, or electronically to Leo.Weston@faa.gov.

FOR FURTHER INFORMATION CONTACT: Leo Weston, AFS-306, at the address above, by e-mail at Leo.Weston@faa.gov, or telephone at (202) 267-3811.

SUPPLEMENTARY INFORMATION:

Comments Invited

The proposed AC is available on the FAA Web site at http://www.faa.gov/avr/afs/acs/ac-idx.htm, under AC No. 20-97B. Interested persons are invited to comment on the proposed AC by submitting such written data, views, or arguments, as they may desire. Please identify AC 20-97B, Aircraft Tire Maintenance and Operational Practices, and submit comments, either hard copy or electronic, to the appropriate address listed above. Comments may be inspected at the above address between 9 a.m. and 4 p.m. weekdays, except Federal holidays.

Issued in Washington, DC, on April 4, 2002.
Louis C. Cusimano,
Deputy Director, Flight Standards Service, AFS-2.

[FR Doc. 02-9121 Filed 4-15-02; 8:45 am]

BILLING CODE 4910-13-M